DEPARTMENT OF TRANSPORTATION

Federal Railroad Administration

Revised Notice of Intent To Prepare an Environmental Impact Statement for the Link Union Station Project, Los Angeles, CA

AGENCY: Federal Railroad Administration (FRA), Department of Transportation (DOT).

ACTION: Notice.

SUMMARY: The Federal Railroad Administration (FRA), on behalf of the California High-Speed Rail Authority (Authority), as the federal lead agency under National Environmental Policy Act (NEPA) Assignment is issuing this notice to advise other Federal, state, local, and tribal agencies and the public that the Authority intends to revise the scope of the analysis of the Environmental Impact Statement (EIS) for the Link Union Station Project (Link US Project) in the cities of Los Angeles and Vernon, California, compliance with relevant state and federal laws, in particular NEPA.

DATES: Written comments on the scope of the Link US Project EIS should be provided to the Authority or Metro starting on September 18, 2020, and must be received by the Authority or Metro on or before October 19, 2020, as noted below. In response to COVID-19, a virtual public scoping meeting is scheduled to occur on October 8, 2020, 6:00 p.m. to 8:00 p.m., Pacific Time. Prior to the scoping meeting date and time noted above, information regarding how to participate in the virtual meeting will be provided at the following location: https://www.metro.net/projects/link-us/. Additionally, further information can be obtained by calling 213-922-2524. Spanish, Chinese (Simplified), and Japanese translation will be provided. You may call 213-922-2499 at least 72 hours in advance of the meeting to request ADA accommodations or other translation services. The scoping presentation and all materials presented during the virtual scoping meeting will be made available on Metro's website referenced above.

ADDRESSES: Questions or written comments on the scope of the Link US Project EIS should be sent to Mark A. McLoughlin, Director, Environmental Services Branch, ATTN: Link US Project, California High-Speed Rail Authority, 770 L Street, Suite 620, Sacramento, CA 95814 or via email with the subject line “Link US Project” to Mark.McLoughlin@hsr.ca.gov or to Vincent Chio, Metro, Director of Program Management, Regional Rail, Los Angeles County Metropolitan Transportation Authority, One Gateway Plaza (Mail Stop 99-17-2, Los Angeles, CA 90012 or via email with the subject line “Link US Project” to: linkunionstation@metro.net). Comments may also be provided during the virtual public scoping meeting described above.

FOR FURTHER INFORMATION CONTACT: For the Authority: Mark A. McLoughlin, Director of Environmental Services, California High-Speed Rail Authority, (telephone: 916-403-6934; email: mark.mcloughlin@hsr.ca.gov). For the FRA: Stephanie B. Perez-Arrieta, Regional Lead, Environmental Protection Specialist, Federal Railroad Administration (telephone: 202-493-0388; email: s.perez-arrieta@dot.gov).

SUPPLEMENTARY INFORMATION: The Los Angeles County Metropolitan Transportation Authority (Metro) is a joint-lead agency under NEPA and the local project sponsor for the Link US Project. Since the publication of the notice of intent (NOI), the Authority and Metro have identified the proposed off-site improvements to BNSF's Malabar Yard in the City of Vernon as a necessary component of the Link US Project. These improvements are located primarily on 46th Street and 49th Street, south of Vernon Avenue, in the northwestern portion of the City of Vernon. This Revised NOI is being issued to solicit additional public and agency input into the development of the scope of the EIS for the Link US Project with respect to the proposed off-site improvements. Public input received during outreach activities conducted by the Authority, Metro, and its representatives will be considered in the preparation of the EIS. FRA and Metro previously conducted scoping for the Link US Project joint EIS/environmental impact report (EIR) in the spring of 2016. FRA published an NOI in the Federal Register on May 31, 2016 (81 FR 34429). FRA and Metro held a scoping meeting on June 2, 2016, at Metro's headquarters (One Gateway Plaza, Los Angeles, California 90012) to receive agency and public input on the Link US Project. In addition to formal scoping meetings, Metro has maintained ongoing outreach to public agencies and consistently engaged the public throughout project development to provide input since spring of 2016.

At the time of project scoping, FRA and Metro intended to prepare a joint EIS/EIR pursuant to NEPA and the California Environmental Quality Act (CEQA). In 2018, Metro proceeded with the preparation of a stand-alone EIR to comply with CEQA and released a Draft EIR for public comment on January 17, 2019. Following consideration of the comments received on the Draft EIR, Metro certified a Final EIR for the Link US Project on June 27, 2019.

FRA and the State of California executed a MOU, pursuant to 23 U.S.C. 327, dated July 23, 2019 through which the State of California, acting through the California State Transportation Agency and the Authority, has assumed FRA's responsibilities under NEPA and other federal environmental laws for projects necessary for the design, construction, and operation of the California HSR System, and for other railroad projects directly connected to stations on the California HSR System, including the Link US Project. Accordingly, the Authority is the lead federal agency for complying with NEPA and other federal environmental laws for the Link US Project. Metro is the local project sponsor for the Link US project.

As described in the 2016 NOI, the Link US Project is centered at Los Angeles Union Station (LAUS). Implementation of common infrastructure designed to accommodate both regional/intercity trains and future HSR trains would result in the permanent loss of storage track capacity at the BNSF West Bank Yard, south of US-101, in the vicinity of First Street. Since FRA published the 2016 NOI, the Authority and Metro have identified off-site improvements to the BNSF Malabar Yard in the City of Vernon that are needed to restore and offset the loss of storage track capacity at the BNSF West Bank Yard. The Authority is issuing this Revised NOI to solicit additional public and agency input into the development of the scope of the Link US Project EIS with respect to the off-site improvements to the BNSF Malabar Yard proposed in the City of Vernon.

The Link US Project EIS will be used by the Authority to address the requirements of NEPA, as well as other applicable statutes, regulations, and executive orders, including (but not limited to) the Clean Air Act, Clean Water Act, Section 106 of the National Historic Preservation Act of 1966 (NHPA), Section 4(f) of the Department of Transportation Act of 1966, the Endangered Species Act, and Executive Order 12898 (Federal Actions to Address Environmental Justice in Minority Populations and Low-Income Populations).

Implementation of the Link US Project is a Federal undertaking with the potential to affect historic properties. As such, it is subject to the requirements of Section 106 of the NHPA. In accordance with regulations issued by the Advisory Council on Historic Preservation, 36 CFR part 800, the Authority intends to coordinate compliance with Section 106 of the NHPA with the preparation of the Link US Project EIS, beginning with the identification of consulting parties in a manner consistent with the standards set out in 36 CFR 800.8. Public comment is sought with respect to the evaluation of potential effects on historic properties.

The EIS will describe site-specific environmental effects and will identify measures to avoid, minimize, or mitigate for potential adverse environmental effects. The Authority will assess the site characteristics, size, nature, and timing of proposed site-specific improvements to determine whether the effects are potentially adverse and whether impacts can be avoided or mitigated. Information and documents regarding this environmental review process will be made available through Metro's internet site: https://www.metro.net/projects/link-us/.

Purpose and Need

Consistent with the 2016 NOI, the purpose of the proposed action is to increase the regional and intercity rail service capacity of LAUS and to improve schedule reliability at LAUS through the implementation of a run-through tracks configuration and elimination of the current stub-end tracks configuration while preserving current levels of freight rail operations, accommodating the planned HSR system in Southern California, increasing the passenger/pedestrian capacity and enhancing the safety of LAUS through the implementation of a new passenger concourse, meeting the multi-modal transportation demands at LAUS.

Consistent with the 2016 NOI, the need for the proposed action is generated by the forecasted increase in regional population and employment; implementation of federal, state, and regional transportation plans that provide for increased operational frequency for regional and intercity trains and introduction of the planned HSR system in Southern California. Localized operational, safety, and accessibility upgrades in and around LAUS will be required to meet existing demand and future growth.

Alternatives

As described in the 2016 NOI, the Link US Project EIS will include an evaluation of one or more Build Alternatives (Proposed Action), as well as a No Action Alternative.

No Action Alternative

The No Action Alternative is defined to serve as the baseline for assessment of the proposed action. The No Action Alternative represents the region's transportation system (highway, air, and conventional rail) as it currently exists, and as it would exist after completion of programs or projects currently planned for funding and implementation by 2040.

Proposed Action (Link US Project Build Alternatives)

The Proposed Action consists of two build alternatives that address proposed infrastructure in the vicinity of LAUS, in conjunction with off-site improvements into the BNSF Malabar Yard in the City of Vernon. The build alternatives would result in enhanced operational capacity from control point (CP) Chavez in the north (near North Main Street) to CP Olympic in the south (near the Interstate 10/State Route 60/U.S.-101 interchange), which serve as the northern and southern project termini. Major components of the build alternatives are described below.

• Throat and Elevated Rail Yard—The build alternatives would include subgrade, signal, and structural improvements in the throat segment to increase the elevation of the tracks leading to the rail yard in the concourse segment at LAUS. The throat would be reconstructed with up to seven lead tracks north of LAUS. The build alternatives would also include new passenger platforms with canopies above the elevated rail yard.

• Passenger Concourse—The build alternatives would include: (1) An expanded passageway; or (2) an at-grade passenger concourse. The expanded passageway or at-grade passenger concourse would be constructed below the elevated rail yard.

• Run-Through Tracks—The build alternatives would include up to 10 new run-through tracks (including the possibility of a loop track) south of LAUS to facilitate connections for regional/intercity rail trains and future HSR trains to the main line tracks on the west bank of the Los Angeles River.

• BNSF Malabar Yard Off-Site Improvements—The build alternatives also require off-site improvements to BNSF's Malabar Yard in the City of Vernon, California, primarily on 46th Street and 49th Street. The off-site improvements are proposed to restore and offset the permanent loss of storage track capacity at the BNSF West Bank Yard.

The proposed action would also require modifications to US-101 and local streets (including potential street closures and geometric modifications); railroad signal, positive train control, and communications-related improvements; modifications to the Gold Line light rail platform and tracks; modifications to the main line tracks on the west bank of the Los Angeles River; modifications to Keller Yard and the Amtrak lead track; permanent removal of storage tracks and partial relocation of the BNSF West Bank Yard; new access roadways to the railroad right-of-way; additional right-of-way; new utilities; utility relocations, replacements, and abandonments; and new drainage facilities/water quality improvements.

Probable Effects

The EIS will include an evaluation of all environmental, social, and economic impacts of the construction and operation of the proposed action in detail. Impact areas to be addressed in the EIS include: Transportation; air quality and greenhouse gases; noise and vibration; public utilities and energy; biological and wetland resources; floodplains, hydrology and water quality; geology, soils, seismicity; hazardous waste and materials; safety and security; socioeconomics and communities; land use and planning; visual quality and aesthetics; historic, cultural and paleontological resources; regional growth; and environmental justice. Measures to avoid, minimize, and mitigate adverse effects will be identified and evaluated.

Scoping and Comments

FRA and Metro have previously carried out scoping for the Link US Project EIS. Since publication of the 2016 NOI, the Authority and Metro have identified the BNSF Malabar Yard off-site improvements as a necessary component of the Link US Project. FRA, on behalf of the Authority, is issuing this Revised NOI to solicit additional public and agency input into the development of the scope of the EIS for the Link US Project with respect to the BNSF Malabar Yard off-site improvements and to advise the public that outreach activities conducted by the Authority and Metro and its representatives will be considered in the preparation of the EIS. Comments and suggestions on the additional project elements described in this Revised NOI are invited from all interested agencies, Native American Tribes, and the public to ensure the full range of issues related to the proposed action and all reasonable build alternatives are addressed and all significant issues are identified. In particular, the Authority and Metro are interested in determining whether there are areas of environmental concern where there might be a potential for adverse effects.

In response to this Revised NOI, public agencies with jurisdiction are requested to advise the Authority and Metro of the applicable permit and environmental review requirements of each agency, and the scope and content of the environmental information that is germane to the agency's statutory responsibilities in connection with the proposed action. Public agencies are requested to advise the Authority and Metro if they anticipate taking a major action in connection with the proposed project and if they wish to cooperate in the preparation of the EIS. To date, Caltrans, District 7 has expressed its intention to participate as a cooperating agency in the preparation of the EIS. The virtual public scoping meeting has been scheduled as an important component of the scoping process for the Federal environmental review. The virtual public scoping meeting described above in this Revised NOI will also be advertised locally and included in additional public notification.

The environmental review, consultation, and other actions required by applicable Federal environmental laws for this project are being or have been carried out by the State of California pursuant to 23 U.S.C. 327 and a Memorandum of Understanding (MOU) dated July 23, 2019, and executed by the FRA and the State of California.

Issued in Washington, DC.
Jamie P. Rennert,
Director, Office of Infrastructure Investment.

[FR Doc. 2020-20520 Filed 9-16-20; 8:45 am]

BILLING CODE 4910-06-P